AGENCY FOR INTERNATIONAL DEVELOPMENT

Notice of Public Information Collection Requirements Submitted to OMB for Review

SUMMARY: U.S. Agency for International Development (USAID) has submitted the following information collection to OMB for review and clearance under the Paperwork Reduction Act of 1995, Public Law 104-. Comments regarding this information collection are best assured of having their full effect if received within 30 days of this notification. Comments should be addressed to: Desk Officer for USAID, Office of Information and Regulatory Affairs, Office of Management and Budget (OMB), Washington, DC 20503. Copies of submission may be obtained by calling (202) 712-1365.

SUPPLEMENTARY INFORMATION: OMB Number: OMB 0412-New.

Form Number: N/A.

Title: Invoice/Payment Request, contractor's Release Statement, and subcontractor Payment Information-Invoice/Payment Request Attachment.

Type of Submission: New.

Purpose: These documents are to be used by construction company prime contractors and sub-contractors during the performance of a duly executable contract. A duly executable contract arrangement may be in the form of a contract, task order, modification, letter contract, and written or oral orders. The information provided will be evaluated by USAID, cognizant technical officer, agency finance personnel, or an authorized contracting officer's representative for contract progress payments during proper execution of construction projects. The information provided may also be used by a surety, insurance, or bonding company for progress payment purposes when the prime construction contractor fails in the performance of a contract, task order, modification, letter contract, or written and oral orders. The information provided in the Invoice/Payment Request form, Contractor's Release Statement, and Subcontractor Payment Information-Invoice/Payment Request Attachment may also be used by a third party construction company for progress payments when the prime construction contractor fails to execute or fails in the performance of a construction contract, task order, modification, letter contract, and written or oral orders.

Annual Reporting Burden:

Respondents: 1,000.

Total annual responses: 1,000.

Total annual hours requested: 600.

Dated: July 2, 2007.
Joanne Paskar,
Chief, Information and Records Division, Office of Administrative Services, Bureau for Management.

[FR Doc. 07-3353 Filed 7-10-07; 8:45 am]

BILLING CODE 6116-01-M